DEPARTMENT OF ENERGY

Federal Energy Regulatory Commission

[Docket Nos. OR06-5-000; IS05-216-000; IS05-260-000]

Williams Energy Services, LLC and Williams Power Company, Inc.; Complainants v. Mid-America Pipeline Company, LLC and Seminole Pipeline Company; Respondents; Mid-America Pipeline Company, LLC; Notice of Complaint

March 8, 2006.

Take notice that on March 6, 2006, Williams Energy Services, LLC and Williams Power Company, Inc. (Williams), filed a complaint against Mid-America Pipeline Company, LLC (MAPL) and Seminole Pipeline Company (Seminole) pursuant to section 13 (1) of the Interstate Commerce Act, 49 U.S. App. 13(1), and Rule 206 of the Commission Rules of Practice and Procedure, 18 CFR 385.206. Williams alleges that MAPL and Seminole have violated the Interstate Commerce Act by charging unjust and unreasonable rates for the transportation of natural gas liquids. Williams also alleges that: (1) The cost of providing service has not been properly allocated among the MAPL pipeline segments, (ii) transportation rate differentials between specific and separate “Groups” were unjustified, (iii) the MAPL and Seminole application of the Commission's “Joint Rate Policy” was inappropriate, (iv) MAPL cannot request a cost of service rate increase and an index rate increase during a single index year, (v) the Seminole rate increase is invalid, (vi) specific rate differentials are unjustified; and (vii) the MAPL revisions to an existing incentive rate program are unduly discriminatory.

Williams states that copies of the complaint have been served on the contacts for MAPL and Seminole as listed on the Commission's list of corporate officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time March 27, 2006.

Magalie R. Salas,
Secretary.

[FR Doc. E6-3662 Filed 3-14-06; 8:45 am]

BILLING CODE 6717-01-P